DEPARTMENT OF JUSTICE

Notice of Lodging of Consent Decree Under the Clean Air Act

In accordance with Departmental policy, 28 CFR 50.7, notice is hereby given that on March 25, 2002 a proposed Partial Consent Decree in United States v. Pharmacia Corporation (p/k/a Monsanto Company) and Solutia, Inc., Civil Action No. CV-02-PT-0749-E was lodged with the United States District Court for the Northern District of Alabama.

In this action the United States alleges that Pharmacia Corporation and Solutia, Inc. (“Defendants”) are liable under the Comprehensive Environmental Response, Compensation and Liability Act (CERCLA), for injunctive relief in connection with the release of hazardous substances from the Defendants' manufacturing facility located in Anniston, Alabama into the environment. The United States further alleges that the Defendants are liable for reimbursing the United States for all future response costs incurred in connection with the Anniston PCB Site.

This Partial Consent Decree (hereafter “Decree”) requires the Defendants to provide, in accordance with federal regulations, standards and guidelines, for a thorough assessment of contamination in and around Anniston, Alabama and to determine the risks that such contamination may pose to public health and the environment. This process is called the Remedial Investigation. In addition, the proposed Decree requires the Defendants to identify methodologies for cleanup of the contamination so as to provide the necessary protection of public health and the environment. This process is called the Feasibility Study. Ultimately, from this process, the U.S. Environmental Protection Agency (“EPA”) will select the appropriate cleanup to ensure protection of public health and the environment. The costs for the Remedial Investigation and Feasibility Study (“RI/FS”) will be borne by the Defendants.

Under the proposed Decree, the Defendants will undertake implementation of the RI/FS. The RI/FS includes the Defendants' manufacturing facility and all areas where contamination has migrated from the facility.

In addition, the Decree requires the Defendants to provide over $3.2 million in funding to an education trust fund. The trust fund is created under the proposed Decree for the purpose of providing special education, tutoring, or other supplemental educational services for children of west Anniston that have learning disabilities or otherwise need additional educational services.

Under the Decree, the Defendants will be required to reimburse the United States for all future oversight costs.

Additionally, the Decree requires the Defendants to provide funding for a Technical Assistance Plan (“TAP”). The purpose of the TAP is to provide technical assistance to the community so that the community can play a meaningful role in the RI/FS process.

The Department of Justice will receive for a period of thirty (30) days from the date of this publication comments relating to the proposed Decree. Comments should be addressed to the Assistant Attorney General for the Environment and Natural Resources Division, U.S. Department of Justice, P.O. Box 7611, Washington, DC 20044, and should refer to United States v. Pharmacia Corporation (p/k/a Monsanto Company and Solutia, Inc., D.J. Ref. 90-11-2-07135/1. The proposed Partial Consent Decree may be examined at the Office of the United States Attorney, Northern District of Alabama, 1801 4th Avenue, North Birmingham, Alabama 35203; and at Region 4, Office of the Environmental Protection Agency, Atlanta Federal Center, 61 Forsyth Street, SW., Atlanta, Georgia 30303. A copy of the proposed Partial Consent Decree may be obtained by mail from the Department of Justice Consent Decree Library, P.O. Box 7611, Washington, DC 20044. In requesting a copy, please enclose a check in the amount of $6.25 (without exhibits), $41.50 (with exhibits) (25 cents per page reproduction cost) payable to the Treasurer of the United States.

Ellen M. Mahan,
Assistant Section Chief, Environment and Natural Resources Division.

[FR Doc. 02-8092 Filed 4-3-02; 8:45 am]

BILLING CODE 4410-15-M